DEPARTMENT OF AGRICULTURE

Forest Service

Tuolumne County Resource Advisory Committee

AGENCY: Forest Service, USDA.

ACTION: Notice of meeting.

SUMMARY: The Tuolumne County Resource Advisory Committee will meet on January 26, 2004, at the City of Sonora Fire Department, in Sonora, California. The purpose of the meeting is to review project status and define work for 2004.

DATES: The meeting will be held January 26, 2004, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; e-mail pkauner@fs.fed.us.

SUPPLEMENTARY INFORMATION: Agenda items to be covered include: (1) Review, propose, and vote on changes to the Highway 108 Corridor Cooperative Fire Defense Coordinator position, formerly approved on August 19, 2002; (2) Consider possible spring 2004 field trips; (3) Discuss ways and means of monitoring the status of funded projects; (4) Coordinate public information to solicit new projects for consideration in funding year 2004; (5) Report out on November 13, 2003 statewide RAC meeting; (6) Public Comments. This meeting is open to the public.

Dated: January 12, 2004.
Tom Quinn,
Forest Supervisor.

[FR Doc. 04-1087 Filed 1-16-04; 8:45 am]

BILLING CODE 3410-ED-M